DEPARTMENT OF ENERGY

Federal Energy Regulatory Commission

Combined Notice of Filings #2

Take notice that the Commission received the following exempt wholesale generator filings:

Docket Numbers: EG17-102-000.

Applicants: Vista Energy Storage, LLC.

Description: Notice of Self-Certification of Exempt Wholesale Generator Status, LLC.

Filed Date: 4/28/17.

Accession Number: 20170428-5317.

Comments Due: 5 p.m. ET 5/19/17.

Take notice that the Commission received the following electric rate filings:

Docket Numbers: ER17-1420-001.

Applicants: PJM Interconnection, L.L.C.

Description: Tariff Amendment: Amendment to ER17-1420-000 Sch. 12-Appdx A re: RTEP Artificial Island Projects to be effective 10/10/2017.

Filed Date: 4/28/17.

Accession Number: 20170428-5391.

Comments Due: 5 p.m. ET 5/19/17.

Docket Numbers: ER17-1495-000.

Applicants: Public Service Company of New Hampshire.

Description: § 205(d) Rate Filing: Design Engineering and Construction Agreement with Essential Power Newington LLC to be effective 6/28/2017.

Filed Date: 4/28/17.

Accession Number: 20170428-5315.

Comments Due: 5 p.m. ET 5/19/17.

Docket Numbers: ER17-1496-000.

Applicants: Southern California Edison Company.

Description: Tariff Cancellation: Cancellation of IFAs and Distribution Service Agreements with City of Industry to be effective 7/1/2017.

Filed Date: 4/28/17.

Accession Number: 20170428-5321.

Comments Due: 5 p.m. ET 5/19/17.

Docket Numbers: ER17-1497-000.

Applicants: Idaho Power Company.

Description: § 205(d) Rate Filing: SA 365—Construction Agreement—Addendum to ITSA with NV Energy to be effective 3/7/2017.

Filed Date: 4/28/17.

Accession Number: 20170428-5322.

Comments Due: 5 p.m. ET 5/19/17.

Docket Numbers: ER17-1498-000.

Applicants: Rockford Power II, LLC.

Description: § 205(d) Rate Filing: Reactive Service Rate Schedule Filings to be effective 6/1/2017.

Filed Date: 4/28/17.

Accession Number: 20170428-5351.

Comments Due: 5 p.m. ET 5/19/17.

Docket Numbers: ER17-1499-000.

Applicants: Rockford Power, LLC.

Description: § 205(d) Rate Filing: Reactive Service Rate Schedule Filings to be effective 6/1/2017.

Filed Date: 4/28/17.

Accession Number: 20170428-5354.

Comments Due: 5 p.m. ET 5/19/17.

Docket Numbers: ER17-1500-000.

Applicants: Appalachian Power Company.

Description: § 205(d) Rate Filing: OATT—TCC & TNC Merger into AEP Texas Inc. and Rates Update to be effective 12/31/9998.

Filed Date: 4/28/17.

Accession Number: 20170428-5358.

Comments Due: 5 p.m. ET 5/19/17.

Docket Numbers: ER17-1501-000.

Applicants: New York Independent System Operator, Inc.

Description: § 205(d) Rate Filing: NYISO 205 filing re: Start-Up Bids in the Real-Time Market to be effective 7/1/2017.

Filed Date: 4/28/17.

Accession Number: 20170428-5362.

Comments Due: 5 p.m. ET 5/19/17.

Docket Numbers: ER17-1502-000.

Applicants: Sierra Pacific Power Company.

Description: § 205(d) Rate Filing: Rate Schedule No. 70 SPPC/Bonneville O&M Agreement to be effective 5/1/2017.

Filed Date: 4/28/17.

Accession Number: 20170428-5388.

Comments Due: 5 p.m. ET 5/19/17.

Docket Numbers: ER17-1503-000.

Applicants: AEP Texas Inc.

Description: Baseline eTariff Filing: OATT Concurrence—AEP Texas to be effective 12/31/9998.

Filed Date: 4/28/17.

Accession Number: 20170428-5392.

Comments Due: 5 p.m. ET 5/19/17.

Docket Numbers: ER17-1504-000.

Applicants: Midcontinent Independent System Operator, Inc., WPPI Energy.

Description: § 205(d) Rate Filing: 2017-04-28_Filing to revised WPPI Energy Attachment O to be effective 7/1/2017.

Filed Date: 4/28/17.

Accession Number: 20170428-5405.

Comments Due: 5 p.m. ET 5/19/17.

Docket Numbers: ER17-1505-000.

Applicants: Entergy Louisiana, LLC.

Description: § 205(d) Rate Filing: ELL-DEMCO Transmission Facilities Credits Distribution Agreement to be effective 4/1/2017.

Filed Date: 4/28/17.

Accession Number: 20170428-5417.

Comments Due: 5 p.m. ET 5/19/17.

Docket Numbers: ER17-1506-000.

Applicants: New England Power Pool Participants Committee.

Description: § 205(d) Rate Filing: May 2017 Membership Filing to be effective 4/1/2017.

Filed Date: 4/28/17.

Accession Number: 20170428-5426.

Comments Due: 5 p.m. ET 5/19/17.

Take notice that the Commission received the following electric securities filings:

Docket Numbers: ES17-18-000.

Applicants: Consumers Energy Company.

Description: Application for Authorization to Issue Securities of Consumers Energy Company.

Filed Date: 4/27/17.

Accession Number: 20170427-5549.

Comments Due: 5 p.m. ET 5/18/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 28, 2017.
Kimberly D. Bose,
Secretary.

[FR Doc. 2017-09113 Filed 5-4-17; 8:45 am]

BILLING CODE 6717-01-P